DEPARTMENT OF ENERGY

Federal Energy Regulatory Commission

[Docket No. EL07-49-000]

CAlifornians for Renewable Energy, Inc. (CARE), Complainant v. California Public Utilities Commission, California Department of Water Resources, Pacific Gas and Electric Company, City and County of San Francisco, Respondents; Notice of Complaint

March 20, 2007.

Take notice that on March 16, 2007, pursuant to section 205 of the Federal Power Act (FPA), CAlifornians for Renewable Energy, Inc. (complainant) filed a formal complaint against California Public Utilities Commission for authorizing on December 15, 2005, City and County of San Francisco to enter in a power purchase agreement with Pacific Gas and Electric Company by assuming contractual obligations of the California Department of Water Resources, in violation of the FPA under the “filed rate doctrine”. The Complainant requests the contract be subject to the Commission's review as required under remand to the Commission on December 16, 2006 by the United State Court of Appeals for the Ninth Circuit in a pair of opinions, Public Utility Dist. No. 1 v. FERC, 471 F.3d 1053 (9th Cir. 2006) and Public Utility Commission of California v. FERC, 474 F.3d 587 (9th Cir. Dec. 19, 2006).

The Complainant states that copies of this Complaint were served upon the Respondents and other interested parties.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 5, 2007.

Philis J. Posey,
Acting Secretary.

[FR Doc. E7-5457 Filed 3-23-07; 8:45 am]

BILLING CODE 6717-01-P